NATIONAL FOUNDATION ON THE ARTS AND THE HUMANITIES

Institute of Museum and Library Services

Notice To Announce Request for Information To Assist in the Development of the Institute of Museum and Library Services' 2022-2026 Strategic Plan

AGENCY: Institute of Museum and Library Services, National Foundation for the Arts and the Humanities.

ACTION: Request for information.

SUMMARY: This Request for Information (RFI) is intended to gather broad public input to assist the Institute of Museum and Library Services (IMLS) in the strategic planning process and to ensure that Agency stakeholders are given an opportunity to comment on the Agency's strategic goals for fiscal years 2022-2026.

DATES: Submit comments on or before Friday, August 6, 2021.

ADDRESSES: Comments must be submitted to strategicplanning@imls.gov.

SUPPLEMENTARY INFORMATION: IMLS seeks stakeholder feedback on how it can carry out its statutory responsibility “to ensure the availability of museum, library, and information services adequate to meet the essential information, education, research, economic, cultural, and civic needs of the people of the United States.” IMLS is developing a five-year strategic plan for FY 2022-FY 2026, as required by the Government Performance and Results Act (GPRA) and GPRA Modernization Act. The resulting IMLS Strategic Plan will be published in February 2022 after review and approval by the Office of Management and Budget.

Information Requested

IMLS invites input from stakeholders, experts, communities, and members of the public, including but not limited to libraries, archives, and museums; researchers in academia, industry, and government; library and museum advocacy organizations; nongovernmental and professional organizations; Federal agencies; and members of the general public. Organizations are strongly encouraged to submit a single response that reflects the views of their organization and membership as a whole.

IMLS wants to leverage its programs, research and data collections, resources, and relationships to:

1. Champion lifelong learning;

2. Strengthen community engagement;

3. Advance collections stewardship and access;

4. Demonstrate excellence in public service.

IMLS asks you to consider the following strategic questions to help envision future services:

• How can museums and libraries broaden participation in learning opportunities for people of all ages, backgrounds, and needs?

• What essential skills will museum, library, and archives professionals need over the next five years to address changes to their work?

• How can museums, libraries, and archives better use outreach and partnerships to serve their communities?

• What practices and tools in museum, library, and archives collections management, care, and access need to be updated or reinvented, and how?

• What research and data are needed to help museums and libraries work more effectively for the benefit of the communities they serve?

IMLS welcomes your general comments on these questions and any other challenges, opportunities, needs, or trends that you find relevant to the development of the IMLS Strategic Plan.

Responses

Responses to this RFI are voluntary. Please do not include any personally identifiable information or any information that you do not wish to make public. Proprietary, classified, confidential, or sensitive information should not be included in your response. The Government will use the information submitted in response to this RFI at its discretion. The Government reserves the right to use any submitted information on public websites, in reports, in any possible resultant solicitation(s), grant(s), or cooperative agreement(s), or in the development of future funding opportunity announcements.

This request is for information and planning purposes only and should not be construed as a solicitation or as an obligation on the part of the United States Government. IMLS will not make any awards based on responses to this RFI or pay for the preparation of any information submitted or for the Government's use of such information.

Dated: July 2, 2021.
Kim Miller,
Senior Grants Management Specialist, Institute of Museum and Library Services.

[FR Doc. 2021-14593 Filed 7-7-21; 8:45 am]

BILLING CODE 7036-01-P